DEPARTMENT OF ENERGY

Federal Energy Regulatory Commission

Combined Notice of Filings #1

Take notice that the Commission received the following exempt wholesale generator filings:

Docket Numbers: EG12-101-000.

Applicants: Anacacho Wind Farm, LLC.

Description: Notice of Self-Certification of Exempt Wholesale Generator Status of Anacacho Wind Farm, LLC.

Filed Date: 8/22/12.

Accession Number: 20120822-5052.

Comments Due: 5 p.m. ET 9/12/12.

Take notice that the Commission received the following electric rate filings:

Docket Numbers: ER10-2606-001; ER10-2609-001.

Applicants: Consolidated Water Power Company; Escanaba Paper Company.

Description: Consolidated Water Power Company, et. Al. submits Amendment to its Market Based Tariff filings.

Filed Date: 8/17/12.

Accession Number: 20120817-5103.

Comments Due: 5 p.m. ET 9/7/12.

Docket Numbers: ER10-2794-006; ER10-2849-005; ER11-2028-006; ER11-3642-005; ER12-1825-003.

Applicants: EDF Trading North America, LLC; EDF Industrial Power Services (NY), LLC; EDF Industrial Power Services (IL), LLC; Tanner Street Generation, LLC; EDF Industrial Power Services (CA), LLC.

Description: Notice of Non-Material Change in Status of EDF Trading North America, LLC, et al.

Filed Date: 8/22/12.

Accession Number: 20120822-5057.

Comments Due: 5 p.m. ET 9/12/12.

Docket Numbers: ER12-2237-002.

Applicants: Dunkirk Power LLC.

Description: Dunkirk Power LLC submits tariff filing per 35.17 (b): Filing to Continue to Hold in Abeyance to be effective 12/31/9998.

Filed Date: 8/22/12.

Accession Number: 20120822-5000.

Comments Due: 5 p.m. ET 9/12/12.

Docket Numbers: ER12-2261-000.

Applicants: Russell City Energy Company, LLC.

Description: Russell City Energy Company, LLC submits Supplement to its July 18, 2012 Application for market-based rate authorization.

Filed Date: 8/17/12.

Accession Number: 20120817-5171.

Comments Due: 5 p.m. ET 9/7/12.

Docket Numbers: ER12-2413-000.

Applicants: Energy Alternatives Wholesale, LLC.

Description: Amendment to Application for Market-Based Rate Authority of Energy Alternatives Wholesale, LLC and Request for Shortened Notice Period.

Filed Date: 8/15/12.

Accession Number: 20120815-5136.

Comments Due: 5 p.m. ET 9/5/12.

Docket Numbers: ER12-2498-000.

Applicants: Alpaugh 50, LLC.

Description: Amendment to Applications for Market-Based Rate Authorization to be effective 8/25/2012.

Filed Date: 8/21/12.

Accession Number: 20120821-5115.

Comments Due: 5 p.m. ET 9/11/12.

Docket Numbers: ER12-2499-000.

Applicants: Alpaugh North, LLC.

Description: Amendment to Applications for Market-Based Rate Authorization to be effective 8/25/2012.

Filed Date: 8/21/12.

Accession Number: 20120821-5116.

Comments Due: 5 p.m. ET 9/11/12.

Docket Numbers: ER12-2500-000.

Applicants: Midwest Independent Transmission System Operator, Inc.

Description: Midwest Independent Transmission System Operator, Inc. submits tariff filing per 35.13(a)(2)(iii: SA 2468 Sugar Creek-Ameren GIA J034 to be effective 8/11/2012.

Filed Date: 8/10/12.

Accession Number: 20120810-5182.

Comments Due: 5 p.m. ET 8/31/12.

Docket Numbers: ER12-2501-000.

Applicants: Southern California Edison Company.

Description: Southern California Edison Company submits tariff filing per 35.13(a)(2)(iii: GIA and Distribution Service Agreement SunEdison Utility Solutions, LLC to be effective 8/23/2012.

Filed Date: 8/22/12.

Accession Number: 20120822-5054.

Comments Due: 5 p.m. ET 9/12/12.

Take notice that the Commission received the following qualifying facility filings:

Docket Numbers: QF12-344-000.

Applicants: Mosaic Fertilizer, LLC.

Description: Form 556 of Mosaic Fertilizer, LLC.

Filed Date: 4/25/12.

Accession Number: 20120425-5087.

Comments Due: 5 p.m. ET 9/3/12.

Docket Numbers: QF12-380-000.

Applicants: Roquette America, Inc.

Description: Roquette America's application for Qualifying Facility Status for Coal Cogeneration Facility located in Keokuk Iowa.

Filed Date: 5/18/12.

Accession Number: 20120518-5197.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 22, 2012.
Nathaniel J. Davis, Sr.,
Deputy Secretary.

[FR Doc. 2012-21515 Filed 8-30-12; 8:45 am]

BILLING CODE 6717-01-P